DEPARTMENT OF DEFENSE

Office of the Secretary

Board of Regents, Uniformed Services University of the Health Sciences; Notice of Federal Advisory Committee Meeting

AGENCY: Under Secretary of Defense for Personnel and Readiness (USD(P&R)), Department of Defense (DoD).

ACTION: Notice of Federal Advisory Committee meeting.

SUMMARY: The DoD is publishing this notice to announce that the following Federal Advisory Committee meeting of the Board of Regents, Uniformed Services University of the Health Sciences (BoR USUHS) took place.

DATES: Monday, November 4, 2024, open to the public from 8 a.m. to 12 p.m. eastern time.

ADDRESSES: Uniformed Services University of the Health Sciences, 4301 Jones Bridge Road, Everett Alvarez Jr. Board of Regents Room (D3001), Bethesda, MD 20814. The meeting will be held both in-person and virtually.

FOR FURTHER INFORMATION CONTACT: Dr. Glendon Diehl, Alternate Designated Federal Officer (DFO), at (301) 295-1917 or bor@usuhs.edu. Mailing address is 4301 Jones Bridge Road, Bethesda, MD 20814. Website: https://www.usuhs.edu/ao/board-of-regents.

SUPPLEMENTARY INFORMATION: Due to an oversight, the BoR USUHS did not provide public notification required by 41 Code of Federal Regulations (CFR) 102-3.150(a) concerning its November 4, 2024, meeting. To correct the oversight, the DFO for the BoR USUHS is providing public notice of the meeting that occurred on November 4, 2024, and based upon the circumstances, the Advisory Committee Management Officer for the Department of Defense, pursuant to 41 CFR 102-3.150(b), waives the 15-calendar day notification requirement.

This meeting was held under the provisions of chapter 10 of title 5, United States Code (U.S.C.) (commonly known as “the Federal Advisory Committee Act” or “FACA”), 5 U.S.C. 552b (commonly known as the “Government in the Sunshine Act”), and 41 CFR 102-3.140 and 102-3.150. Due to an unforeseen oversight, public notice was not provided prior to the meeting.

Purpose of the Meeting: The purpose of the meeting was to provide advice and recommendations to the Secretary of Defense, through the USD(P&R), on academic and administrative matters critical to the full accreditation and successful operation of Uniformed Services University (USU). These actions are necessary for USU to pursue its mission, which is to educate, train, and comprehensively prepare uniformed services health professionals, officers, scientists, and leaders to support the Military and Public Health Systems, the National Security and National Defense Strategies of the United States, and the readiness of our Uniformed Services.

Agenda: The schedule includes opening comments from the Chair; a report by the USU President; an update from the Assistant Secretary of Defense for Health Affairs; a brief on Military Health System Education and Training Mission and Capability Evaluation; an update on USU Financial Plans and Strategy; and a brief on Digital Health Integration Center Concept and Artificial Intelligence Integration Discussion.

Written Statements: Pursuant to section 10(a)(3) of the FACA and 41 CFR 102-3.140, the public or interested organizations may submit written comments to the BoR USUHS about its mission or in response to an approved agenda. Individuals submitting a written statement must submit their statement to Ms. Askins-Roberts at the address noted in the FOR FURTHER INFORMATION CONTACT section. Written statements that do not pertain to a scheduled meeting of the BoR USUHS may be submitted at any time whereas, written statements pertaining to a specific topic being discussed at a planned meeting, then these statements must be received at least five calendar days prior to the scheduled meeting for consideration by the Board. Written statements pertaining to a scheduled meeting received after the deadline will be considered by the Board at a later date. The DFO will compile all timely submissions with the BoR USUHS' Chair and ensure such submissions are provided to BoR USUHS members before the meeting. Interested individuals or parties that want to provide written statements concerning the BoR USUHS' November 4, 2024 meeting may submit statements to Ms. Askins-Roberts or Dr. Glendon Diehl at the address noted in the FOR FURTHER INFORMATION CONTACT section.

Dated: November 15, 2024.
Stephanie J. Bost,
Alternate OSD Federal Register Liaison Officer, Department of Defense.

[FR Doc. 2024-27248 Filed 11-20-24; 8:45 am]

BILLING CODE 6001-FR-P